COMMISSION ON CIVIL RIGHTS

Notice of Public Meeting of the Missouri Advisory Committee To Discuss Themes and Findings Resulting From Testimony Received Regarding Civil Rights and Police/Community Interactions in the State

AGENCY: U.S. Commission on Civil Rights.

ACTION: Notice of meeting.

SUMMARY: Notice is hereby given, pursuant to the provisions of the rules and regulations of the U.S. Commission on Civil Rights (Commission) and the Federal Advisory Committee Act that the Missouri Advisory Committee (Committee) will hold a meeting on Wednesday January 20, 2016, for the purpose of discussing oral and written testimony received during two public meetings focused on civil rights and police and community interactions in Missouri. Themes and findings discussed during this meeting will form the basis of a report to be issued to the Commission on this topic.

Members of the public can listen to the discussion. This meeting is available to the public through the following toll-free call-in number: 888-430-8709, conference ID: 8351674. Any interested member of the public may call this number and listen to the meeting. Callers can expect to incur regular charges for calls they initiate over wireless lines according to their wireless plan, and the Commission will not refund any incurred charges. Callers will incur no charge for calls they initiate over land-line connections to the toll-free telephone number. Persons with hearing impairments may also follow the proceedings by first calling the Federal Relay Service at 1-800-977-8339 and providing the Service with the conference call number and conference ID number.

Members of the public are also entitled to submit written comments; the comments must be received in the regional office within thirty days following the meeting. Written comments may be mailed to the Midwestern Regional Office, U.S. Commission on Civil Rights, 55 W. Monroe St., Suite 410, Chicago, IL 60615. They may also be faxed to the Commission at (312) 353-8324, or emailed to Carolyn Allen at callen@usccr.gov. Persons who desire additional information may contact the Midwestern Regional Office at (312) 353-8311.

Records generated from this meeting may be inspected and reproduced at the Midwestern Regional Office, as they become available, both before and after the meeting. Records of the meeting will be available at https://database.faca.gov/committee/meetings.aspx?cid=258. Click on “meeting details” and “documents” to download. Persons interested in the work of this Committee are directed to the Commission's Web site, http://www.usccr.gov, or may contact the Midwestern Regional Office at the above email or street address.

Agenda

Welcome and Introductions

Committee Discussion: Themes and findings resulting from Committee hearings on Civil Rights and Police/Community Relations in Missouri. (February 23, 2015 St. Louis; August 20, 2015 Kansas City)

Open Comment

Recommendations and Next Steps

DATES: The meeting will be held on Wednesday, January 20, 2015, at 12:00 p.m. CST.

Public Call Information:

Dial: 888-430-8709

Conference ID: 8351674

FOR FURTHER INFORMATION CONTACT: Melissa Wojnaroski, DFO, at 312-353-8311 or mwojnaroski@usccr.gov.

Dated November 10, 2015.
David Mussatt,
Chief, Regional Programs Unit.

[FR Doc. 2015-29254 Filed 11-16-15; 8:45 am]

BILLING CODE 6335-01-P